DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of April 2006.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

Affirmative Determinations for Worker Adjustment Assistance and Alternative Trade Adjustment Assistance

The following certifications have been issued; the date following the company name and location of each determination references the impact date for all workers of such determination.

The following certifications have been issued. The requirements of (a)(2)(A) (increased imports) of Section 222 have been met, and Section 246(a)(3)(A)(ii) of the Trade Act have been met.

TA-W-58,881; Paris Accessories, New Smithville, PA: February 21, 2005.

TA-W-58,881A; Paris Accessories, Allentown, PA: February 21, 2005.

TA-W-59,041; Kidde Fire Fighting, Division of UTC Fire and Security, Leased Wkrs of Augmentation, Manpower, Ranson, WV: March 14, 2005.

TA-W-59,103; Ceramo Company, Inc., Jackson, MO: March 27, 2005.

TA-W-59,106; Barcoview, Printed Circuit Boards and Video Displays, Duluth, GA: March 23, 2005.

TA-W-59,140; MRC Industrial Group, Warren, MI: March 30, 2005.

TA-W-59,148; Valkyrie Co. (The), Worchester, MA: March 29, 2005.

TA-W-58,924; Miller Desk, Inc., High Point, NC. February 3, 2005.

TA-W-58,833; Greenpak, Inc., Florence South Carolina Div., Leased Wkrs of CMS, Olsten, Mega Force and Kel, Florence, SC: February 9, 2005.

TA-W-58,833A; Greenpak, Inc., Parkersburg, WV: February 9, 2005.

TA-W-58,949; WWG Company, LLC, Leased Wkrs of Sizemore Staffing Services, Warrenton, GA: March 2, 2005.

TA-W-58,950; Atlantic Luggage Company, Ellwood City, PA: March 2, 2005.

TA-W-58,973; Arcona Leather Technologies, LLC, also known as JP Leather/Arcona Division, Hudson, NC: February 24, 2005.

TA-W-58,976; Berkshire Weaving Corp., Lancaster, SC: March 1, 2005.

TA-W-58,980; Stora Enso North America, Stevens Point Paper Mill, Stevens Point, WI: March 7, 2005.

TA-W-58,998; Action Apparel, Inc., On-Site Leased Workers of Enterprise, Ramer, TN: March 10, 2005.

TA-W-59,002; Visa Jewelry Corporation, On-Site Leased Workers of Temp Depot, Central Falls, RI: March 1, 2005.

TA-W-59,008; Mr. LongArm, Inc., Greenwood, MO: March 10, 2005.

TA-W-59,048; National Bedding Co., A Division of Serta Mattress, Linden, NJ: March 1, 2005.

TA-W-59,058; Jeffco Enterprises, Hildebran, NC: March 17, 2005.

The following certifications have been issued. The requirements of (a)(2)(B) (shift in production) of Section 222 and Section 246(a)(3)(A)(ii) of the Trade Act have been met.

TA-W-58,960; Lesaffre Yeast Corp., Red Star Yeast Facility, A Division of Lesaffre International Corp., Milwaukee, WI: February 28, 2005.

TA-W-59,093; Dana Corporation, Fluid Routing Products, On-Site Leased Workers of Manpower, Paris, TN: March 27, 2005.

TA-W-59,028; General Electric Newark Quartz, A Division of General Electric, Hebron, OH: February 28, 2005.

TA-W-59,169; Moore Wallace, An RR Donnelley Co., Pre-Press Department, Nacogdoches, TX: March 30, 2005.

The following certification has been issued. The requirement of supplier to a trade certified firm and Section 246(a)(3)(A)(ii) of the Trade Act have been met.

TA-W-59,120; Rabun Apparel, Inc., Division of Fruit of the Loom, Rabun Gap, GA: March 25, 2005.

TA-W-59,187; Terrell Brothers Manufacturing Co., Denton, NC: March 12, 2005.

The following certification has been issued. The requirement of downstream producer to a trade certified firm and Section 246(a)(3)(A)(ii) of the Trade Act have been met.

TA-W-59,156; Clover Yarn, Inc., Leased Workers of Debbie's Staffing Services, Clover, VA: April 3, 2005.

Negative Determinations for Worker Adjustment Assistance

In the following cases, the investigation revealed that the criteria for eligibility have not been met for the reasons specified.

The investigation revealed that criterion (a)(2)(A)(I.A) and (a)(2)(B)(II.A) (no employment decline) has not been met.

TA-W-58,846; Alrs, Inc., dba Guilcraft of California, Rancho Dominquez, CA.

TA-W-59,126; OTR Wheel Engineering, Inc., Quincy, IL.

The investigation revealed that criteria (a)(2)(A)(I.B.) (Sales or production, or both, did not decline) and (a)(2)(B)(II.B) (shift in production to a foreign country) have not been met.

None

The investigation revealed that criteria (a)(2)(A)(I.C.)(increased imports) and (a)(2)(B)(II.B) (No shift in production to a foreign country) have not been met.

TA-W-58,651; Sheppard Frames, Inc., Thomasville, NC.

TA-W-58,827; Stucki Embroidery Works, Inc., Fairview, NJ.

TA-W-58,919; Western Textile Products Company, Piedmont, SC.

TA-W-58,923; Kadant Black Clawson, Inc., A Subsidiary of Kadant, Inc., Rayville, LA.

TA-W-58,943; Rexnord Industries, Inc., Coupling Group, Warren, PA.

TA-W-58,958; Alcan Global Pharmaceutical Packaging, Plastic Americas Division, Centralia, IL.

TA-W-59,005; Leggett and Platt, Eastern Division, York, PA.

The investigation revealed that criteria (a)(2)(A)(I.C.)(Increased imports and (a)(2)(B)(II.C) (has shifted production to a foreign country) have not been met.

TA-W-58,926; Triangle Suspension Systems, Steel Leaf Springs, Dubois, PA.

TA-W-58,955; Sony Magnetic Products, Inc. of America, Recorded Media Division, Dothan, AL.

The workers firm does not produce an article as required for certification under Section 222 of the Trade Act of 1974.

TA-W-58,926A; Triangle Suspension Systems, Packaging Division, Dubois, PA.

TA-W-59,007; Professional Distribution Services, Inc., A Division of the Lester Group, Martinsville, VA.

TA-W-59,046; GE Aviation Engine Services, West Coast Operations, Ontario Plant #1, Ontario, CA.

TA-W-59,066; Maine Neurology, Scarborough, ME.

TA-W-59,099; Delta Airlines, Inc, Delta Technical Operations Group, Atlanta, GA.

TA-W-59,141; AT & T Consumer Services, Subdivision of AT&T Corporation, Fairhaven, MA.

The investigation revealed that criteria (2) has not been met. The workers firm (or subdivision) is not a supplier or downstream producer to trade-affected companies.

None.

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

Since the workers are denied eligibility to apply for TAA, the workers cannot be certified eligible for ATAA.

TA-W-58,846; Alrs, Inc., dba Guilcraft of California, Rancho Dominquez, CA.

TA-W-59,126; OTR Wheel Engineering, Inc., Quincy, IL.

TA-W-58,651; Sheppard Frames, Inc., Thomasville, NC.

TA-W-58,827; Stucki Embroidery Works, Inc., Fairview, NJ.

TA-W-58,919; Western Textile Products Company, Piedmont, SC.

TA-W-58,923; Kadant Black Clawson, Inc., A Subsidiary of Kadant, Inc., Rayville, LA.

TA-W-58,943; Rexnord Industries, Inc., Coupling Group, Warren, PA.

TA-W-58,958; Alcan Global Pharmaceutical Packaging, Plastic Americas Division, Centralia, IL.

TA-W-59,005; Leggett and Platt, Eastern Division, York, PA.

TA-W-58,926; Triangle Suspension Systems, Steel Leaf Springs, Dubois, PA.

TA-W-58,955; Sony Magnetic Products, Inc. of America, Recorded Media Division, Dothan, AL.

TA-W-58,926A; Triangle Suspension Systems, Packaging Division, Dubois, PA.

TA-W-59,007; Professional Distribution Services, Inc., A Division of the Lester Group, Martinsville, VA.

TA-W-59,046; GE Aviation Engine Services, West Coast Operations, Ontario Plant #1, Ontario, CA.

TA-W-59,066; Maine Neurology, Scarborough, ME.

TA-W-59,099; Delta Airlines, Inc, Delta Technical Operations Group, Atlanta, GA.

TA-W-59,141; AT& T Consumer Services, subdivision of AT&T Corporation, Fairhaven, MA.

The Department has determined that criterion (1) of Section 246 has not been met. Workers at the firm are 50 years of age or older.

TA-W-58,973; Arcona Leather Technologies, LLC, also known as JP Leather/Arcona Division, Hudson, NC.

The Department has determined that criterion (2) of Section 246 has not been met. Workers at the firm possess skills that are easily transferable.

TA-W-59,103; Ceramo Company, Inc., Jackson, MO.

TA-W-58,924; Miller Desk, Inc., High Point, NC.

TA-W-59,093; Dana Corporation, Fluid Routing Products, On-Site Leased Workers of Manpower, Paris, TN.

TA-W-59,156; Clover Yarn, Inc., Leased Workers of Debbie's Staffing Services, Clover, VA.

The Department has determined that criterion (3) of Section 246 has not been met. Competition conditions within the workers' industry are not adverse.

None

I hereby certify that the aforementioned determinations were issued during the month of April 2006. Copies of These determinations are available for inspection in Room C-5311, U.S. Department of Labor, 200 Constitution Avenue, NW., Washington, DC 20210 during normal business hours or will be mailed to persons who write to the above address.

Dated: April 17, 2006.
Erica R. Cantor,
Director, Division of Trade Adjustment Assistance.

[FR Doc. E6-6095 Filed 4-21-06; 8:45 am]

BILLING CODE 4510-30-P